DEPARTMENT OF ENERGY

Federal Energy Regulatory Commission

[Docket No. ER00-1655-001]

Southern Company Services, Inc.; Notice of Filing

May 11, 2000.

Take notice that on May 8, 2000, Southern Company Services, Inc. (SCSI), acting as agent for Alabama Power Company, Georgia Power Company, Gulf Power Company, Mississippi Power Company, and Savannah Electric and Power Company (collectively referred to as the Operating Companies), submitted for filing a response to the Staff's deficiency letter issued in this docket on April 14, 2000.

Copies of the filing were served on all intervenors in the proceeding and upon the affected State commissions.

Any person desiring to be heard or to protest such filing should file a motion to intervene or protest with the Federal Energy Regulatory Commission, 888 First Street, NE, Washington, DC 20426, in accordance with Rules 211 and 214 of the Commission's Rules of Practice and Procedure (18 CFR 385.211 and 285.214). All such motions and protests should be filed on or before May 22, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-12330 Filed 5-16-00; 8:45 am]

BILLING CODE 6717-01-M